DEPARTMENT OF HEALTH AND HUMAN SERVICES

Meetings of the National Biodefense Science Board

AGENCY: Department of Health and Human Services, Office of the Secretary.

ACTION: Notice.

SUMMARY: As stipulated by the Federal Advisory Committee Act, the U.S. Department of Health and Human Services is hereby giving notice that the National Biodefense Science Board (NBSB) will be holding a closed session under exemption 9(B) of the Government in Sunshine Act, 5 U.S.C. 552b(c), in addition to a public meeting the following day.

DATES: The June 26, 2012, NBSB public meeting is tentatively scheduled from 9:00 a.m. to 5 p.m. The closed session of the NBSB will take place on June 25, 2012, and is tentatively scheduled from 10:00 a.m. to 1:00 p.m. The agendas for both days are subject to change as priorities dictate. Please check the NBSB Web site for the most up-to-date information on these meetings.

ADDRESSES: The June 26, 2012, public meeting will be held at the Washington Plaza Hotel, 10 Thomas Circle Northwest, Washington, DC 20005. To attend by teleconference and/or Web cast, please refer to the NBSB Web site for further instructions at WWW.PHE.GOV/NBSB. Please log-in/call 15 minutes prior to the beginning of the meeting to facilitate attendance. Pre-registration is optional for in-person attendance, however online access to the Web cast is required by June 21, 2012. Individuals who wish to attend the meeting in-person should send an email to NBSB@HHS.GOV with “NBSB Registration” in the subject line by June 21, 2012. The closed session will not be open to the public as stipulated under exemption 9(B) of the Government in Sunshine Act, 5 U.S.C. section 552b(c).

FOR FURTHER INFORMATION CONTACT: The National Biodefense Science Board mailbox: NBSB@HHS.GOV.

SUPPLEMENTARY INFORMATION: Pursuant to section 319M of the Public Health Service Act (42 U.S.C. 247d-7f) and section 222 of the Public Health Service Act (42 U.S.C. 217a), the Department of Health and Human Services established the National Biodefense Science Board. The Board shall provide expert advice and guidance to the Secretary on scientific, technical, and other matters of special interest to the Department of Health and Human Services (HHS) regarding current and future chemical, biological, nuclear, and radiological agents, whether naturally occurring, accidental, or deliberate. The Board may also provide advice and guidance to the Secretary and/or the Assistant Secretary for Preparedness and Response (ASPR) on other matters related to public health emergency preparedness and response.

Background: The June 26, 2012, public meeting will be dedicated to the introduction of two new tasks to the NBSB. The NBSB is being tasked to advise the HHS Secretary on the development of a national public health and healthcare situational awareness strategy and implementation plan. In addition, the NBSB, in collaboration with the Public Health Preparedness and Response—Board of Scientific Counselors, a Centers for Disease Control and Prevention Federal Advisory Committee, is being tasked with identification and evaluation of the anticipated responsibilities of the Strategic National Stockpile for the year 2020. The NBSB continues to review and evaluate the 2012 Public Health Emergency Medical Countermeasures Enterprise (PHEMCE) Strategy and Implementation Plan (SIP). Therefore, the Board's deliberations on the PHEMCE SIP task are being conducted in closed sessions in accordance with provisions set forth under exemption 9(B) of the Government in Sunshine Act, 5 U.S.C. 552b(c), and with approval by the ASPR. For a full description for the basis for closing the meeting on June 25, 2012, please see the previous meeting notice published at 77 FR 13129 (2012).

Availability of Materials: The meeting agenda and materials will be posted on the NBSB Web site at www.PHE.GOV/NBSB prior to the meeting.

Procedures for Providing Public Input: Any member of the public providing oral comments at the meeting must sign-in at the registration desk and provide his/her name, address, and affiliation. All written comments must be received prior to June 21, 2012, and should be sent by email to NBSB@HHS.GOV with “NBSB Public Comment” as the subject line. Individuals who plan to attend and need special assistance, such as sign language interpretation or other reasonable accommodations, should email NBSB@HHS.GOV.

Dated: May 25, 2012.
Nicole Lurie,
Assistant Secretary for Preparedness and Response.

[FR Doc. 2012-13387 Filed 5-31-12; 8:45 am]

BILLING CODE 4150-37-P